DEPARTMENT OF TRANSPORTATION

National Highway Traffic Safety Administration

[Docket No. NHTSA-2023-0048]

Motorcyclist Advisory Council

AGENCY: National Highway Traffic Safety Administration (NHTSA), Department of Transportation (DOT).

ACTION: Notice of establishment of the Motorcyclist Advisory Council (MAC) and solicitation for appointment to the MAC.

SUMMARY: NHTSA announces the establishment of MAC for a 2-year period. The MAC will coordinate with and advise the Secretary of Transportation, the NHTSA Administrator and the Federal Highway Administration (FHWA) Administrator on transportation issues of concern to motorcyclists, including: motorcycle and motorcyclist safety; barrier and road design, construction, and maintenance practices; and the architecture and implementation of intelligent transportation system technologies. NHTSA is also soliciting nominations for appointment to the MAC.

DATES: Applications for membership must be received by NHTSA on or before 5 p.m. EST, December 15, 2023.

ADDRESSES: If you wish to apply for membership, your application should be submitted to:

• Email: MotorcyclistAdvisoryCouncil@dot.gov.

• Mail: Use only overnight mail and send to: U.S. Department of Transportation, National Highway Traffic Safety Administration, Office of Safety Programs, Room W44-308, 1200 New Jersey Avenue SE, Washington, DC, 20590.

FOR FURTHER INFORMATION CONTACT: John W. Marshall, Director, Office of Safety Programs, Office of Research and Program Development, National Highway Traffic Safety Administration, U.S. Department of Transportation, john.marshall@dot.gov or 202-366-3803. Any Council related questions should be sent to the persons listed in this section.

SUPPLEMENTARY INFORMATION:

Background: Section 24111 of the Bipartisan Infrastructure Law (BIL), also known as the Infrastructure Investment and Jobs Act (Pub. L. 117-58) (codified at 49 U.S.C. 355) requires the establishment of a Motorcyclist Advisory Council (MAC). The Secretary of Transportation is required to establish a MAC to advise on transportation safety issues of concern to motorcyclists, including:

(1) Motorcycle and motorcyclist safety

(2) Barrier and road design, construction, and maintenance practices; and

(3) The architecture and implementation of intelligent transportation system technologies.

Description of Duties: The Council shall:

a. Provide advice on transportation safety issues of concern to motorcyclists consistent with the statutorily specified advising duties.

b. Provide a forum for the development, consideration, and communication of information from a knowledgeable and independent perspective.

c. Not later than October 31 of the calendar year following the calendar year in which the Council is established, and not less than once every 2 years thereafter, submit to the Secretary a report containing recommendations of the Council regarding (1) Motorcycle and motorcyclist safety; (2) Barrier and road design, construction, and maintenance practices; and (3) The architecture and implementation of intelligent transportation system technologies.

Membership: Consistent with the statute, the MAC shall be comprised of 13 members appointed by the Secretary of Transportation for a single term of up to 2 years. The MAC seeks to have a fairly balanced membership with expertise in motorcycle and motorcyclist safety, highway engineering, and safety analysis. Specifically, as set by statute, the MAC shall be comprised of the following groups: “(A) 5 shall be representatives of units of State or local government with expertise relating to highway engineering and safety issues, including—(i) motorcycle and motorcyclist safety; (ii) barrier and road design, construction, and maintenance; or (iii) intelligent transportation systems; (B) 1 shall be a motorcyclist who serves as a State or local—(i) traffic and safety engineer; (ii) design engineer; or (iii) other transportation department official; (C) 1 shall be a representative of a national association of State transportation officials; (D) 1 shall be a representative of a national motorcyclist association; (E) 1 shall be a representative of a national motorcyclist foundation; (F) 1 shall be a representative of a national motorcycle manufacturing association; (G) 1 shall be a representative of a motorcycle manufacturing company headquartered in the United States; (H) 1 shall be a roadway safety data expert with expertise relating to crash testing and analysis; and (I) 1 shall be a member of a national safety organization that represents the traffic safety systems industry.” 49 U.S.C. 355(b)(1).

Members serve on the basis of selection by the Secretary for 2 years. If a successor is not appointed for a member of the Council before the expiration of the term of service of the member, the member may serve on the Council for a second term of no longer than 2 years. The Secretary may extend appointments and may appoint replacements for members who have resigned outside of a stated term, as necessary. Members may continue to serve until their replacements have been appointed. If a member of the Council resigns before the expiration of the 2-year term of service of the member—“(i) the Secretary may appoint a replacement for the member, who shall serve the remaining portion of the term; and (ii) the resigning member may continue to serve after resignation until the date on which a successor is appointed.” Id. section 355(b)(2). A vacancy on the Council shall be filled in the manner in which the original appointment was made.

MAC members will not receive pay or other compensation from NHTSA for their MAC service, but are entitled to reimbursement for their travel expenses, including per diem. The MAC shall meet approximately twice a Federal fiscal year. Members appointed solely for their expertise will serve as special Government employees and relevant ethics laws will apply.

Qualifications: Members will be selected based on their expertise, training, and experience and their ability to represent one of the identified groups.

Materials To Submit: Individuals interested in serving on the MAC are invited to apply for appointment by submitting a resume or curriculum vitae. Individuals also may submit letters of recommendation that highlight their qualifications as to expertise, training, or experience or their ability to represent one of the identified groups. Application materials must be submitted to one of the locations listed in the ADDRESSES section by the deadline listed in the DATES section. Please include your full legal name and date of birth in your application. Each applicant must identify the category that he or she seeks to represent. Members will be selected on the basis of materials submitted and in a manner that ensures equal opportunity for all people consistent with all Federal anti-discrimination laws that prohibit discrimination on the basis of race, color, religion, sex, gender identity, sexual orientation, national origin, disability or age. Moreover, selection will be undertaken in a manner that encourages participation by members of underrepresented and underserved communities.

Authority: 49 CFR 1.95 and 501.8.

Issued in Washington, DC.
Nanda Narayanan Srinivasan,
Associate Administrator, Research and Program Development.

[FR Doc. 2023-20726 Filed 9-22-23; 8:45 am]

BILLING CODE 4910-59-P